DEPARTMENT OF THE INTERIOR

Bureau of Land Management

[LLIDI01000-10-L12200000.AL0000]

Final Supplementary Rules for the Upper Snake Field Office, Idaho

AGENCY: Bureau of Land Management, Interior.

ACTION: Final supplementary rules.

SUMMARY: The Bureau of Land Management (BLM) is finalizing supplementary rules for all BLM-managed public lands within the approximate 119 miles of river corridor addressed in the Snake River Activity/Operations Plan Revision Environmental Assessment (hereafter referred to as the Snake River Plan), which was developed jointly by the BLM and the U.S. Forest Service (USFS) and approved July 8, 2008. The Decision Record for the Snake River Plan identifies implementation level decisions which describe an array of management actions designed to conserve natural and cultural resources on lands managed by the BLM and the USFS while providing for recreational opportunities in the area. These supplementary rules will help enforce the decisions in the Snake River Plan and will be enforced on lands managed by the BLM.

DATES: These supplementary rules are effective July 8, 2011.

ADDRESSES: You may direct inquiries to the Bureau of Land Management, Upper Snake Field Office, 1405 Hollipark Drive, Idaho Falls, Idaho 83401; or by e-mail: Shannon_Bassista@blm.gov.

FOR FURTHER INFORMATION CONTACT: Field Manager, BLM Upper Snake Field Office at (208) 524-7500. Contact Ron Dickemore, USFS Palisades Ranger District, for information concerning enforcement on lands managed by the USFS (208) 523-1412.

SUPPLEMENTARY INFORMATION:

I. Background

II. Discussion of Public Comments

III. Discussion of Supplementary Rules

IV. Procedural Matters

I. Background

The Snake River Plan covers approximately 119 miles of river corridor and adjacent public lands in southeast Idaho, including the South Fork of the Snake River (South Fork) from Palisades Dam to the confluence with the Henry's Fork of the Snake River (Henry's Fork), the Henry's Fork from St. Anthony to its confluence with the South Fork, and the main stem of the Snake River (Main Snake) from the confluence south to Market Lake Canal below Lewisville Knolls. A map entitled “The Snake River Planning Area” is available at the BLM Upper Snake Field Office, located at the address in the ADDRESSES section of this notice.

During the Snake River Plan planning process, the BLM and the USFS gathered public scoping information using a variety of methods over a three-year period. Initially, the BLM created traveling kiosks to provide information about the planning process. The kiosks were placed at key locations in the greater planning area and contained comment cards that helped generate an interested public list. The BLM then distributed multiple mailings to over 1,000 people with each mailing and received comments concerning the management directions for the plan. The mailing list included all members of the public who supplied their addresses during public scoping events, as well as South Fork season pass holders. BLM staff hosted multiple public scoping meetings, presented the Snake River Plan to interested groups (e.g., local fishing clubs, county commissioners, water user groups), and received numerous comments.

The BLM consulted the Shoshone-Bannock Tribes over the course of the planning timeframe. Multiple scoping meetings with the Shoshone-Bannock Tribes Fort Hall Business Council, Environmental Management staff, and Fish and Wildlife staff were held. The BLM received tribal comments on the proposed management actions and recreation issues. In addition, the draft plan was reviewed by the Shoshone-Bannock Tribes, and the BLM incorporated comments into the Decision Record for the Snake River Plan.

These supplementary rules will help the BLM achieve management objectives and implement the Snake River Plan's decisions. These supplementary rules will also allow the BLM to enforce the decisions to help prevent damage to natural resources, provide for public health, and provide for safe public recreation. These supplementary rules supersede the following notices: (1) Notice of Emergency Closure of Public Lands, Idaho, 53 FR 8701 (March 16, 1988); (2) Notice of Seasonal Restrictions and Limited Land Use, Closure Order, Idaho, 57 FR 27264 (June 18, 1992); and (3) Notice of Sanitation and Special Recreation Permit Requirements on the South Fork of the Snake River, 60 FR 19762 (April 20, 1995).

II. Discussion of Public Comments

The BLM Upper Snake Field Office proposed supplementary rules in the Federal Register on August 31, 2010 (75 FR 53335). Public comments were accepted by mail and/or email for a 30-day period ending on September 30, 2010. The BLM received 11 comments concerning the boundary of the Stinking Springs human entry closure. One comment suggested the use of fire blankets instead of fire pans, and one comment requested prohibiting recreational vehicle (RV) owners from dumping their tanks at the dump station at Byington. The Idaho Department of Parks and Recreation (IDPR) commented about off-highway vehicle (OHV) use in Kelly Island Campground and expressed concern that the OHV definition is vague in the proposed supplementary rules.

III. Discussion of Supplementary Rules

These final supplementary rules apply to BLM-managed lands located along 119 miles of river corridor that were analyzed in the Snake River Plan. These final supplementary rules are necessary to protect natural resources on public land and provide for the public's health and safety. These final supplementary rules will implement decisions outlined in the Decision Record for the Snake River Plan signed on July 8, 2008. Maps that pertain to the final supplementary rules will be available at the BLM office in Idaho Falls and on the following BLM Web site: http://www.blm.gov/id/st/en/fo/upper_snake/snake_river_plan_maps.html. All management decisions are proposed under the authority of 43 CFR 8341.1, 8364.1, 8365.1-4, and 9268.3. Please see the preamble for the proposed supplementary rules (75 FR 53335-53336) for further discussion of the supplementary rules.

The final supplementary rules incorporate changes based on the comments mentioned in the previous section titled “Discussion of Public Comment.” Internal review led to some technical changes in grammar and formatting. All Web site changes from the proposed supplementary rules to the final supplementary rules were due to Web site design changes at the BLM Idaho state office level. The following paragraphs explain all major changes and reasoning behind the changes from the proposed supplementary rule to the final supplementary rule. Supplementary rules that are not discussed in this preamble either received no public comment or remain as proposed.

The definitions were moved to the beginning of the supplementary rules in order to facilitate their use.

Most of the comments received were in response to the Stinking Springs seasonal human entry closure. Local skiers and snowshoers requested that the size of the human entry closure boundary be reduced to allow more area for winter recreation activities. The BLM consulted with the Idaho Department of Fish and Game and reviewed big game data collected over the last four years. Biologists determined that there was a lack of wintering big game in the areas requested for exclusion from the human entry closure. Therefore, the boundary of the Stinking Springs human entry closure has been altered to accommodate recreation requests. The legal description in Rule 7(c) has been changed to reflect the altered boundary, the total acreage of the closure has been added, and the address where the official plat is located has been added.

The IDPR requested that OHVs be allowed to enter and exit Kelly Island Campground without being trailered. The campground is compact, does not provide the road capacity needed to accommodate OHV traffic, and is crowded with pedestrians. The proposed supplementary rules would have required visitors to unload OHVs in designated areas near the entrance of the campground, allowing them the opportunity to ride on local trails while camping at Kelly Island. No change is reflected in the final supplementary rules concerning this comment. The IDPR also recommended a change in the OHV definition to make it more clear, more concise, and consistent with Idaho State Code. The BLM Idaho program lead for trails, OHV use, and travel management coordinated with the IDPR program lead for motorized travel to develop a definition that meets both the BLM and Idaho State Code standards. The OHV definition in the final supplementary rules has been modified to address the needs of both agencies.

The area description to which the final supplementary rules apply has been changed in both Rule 5(a) and Rule 10. In Rule 5(a) the area description was changed from “the 119-mile river corridor” to the “Snake River planning area.” In Rule 10 the area description was changed from “designated recreation sites or areas identified by a BLM map or sign” to the “Snake River planning area.” The phrase “Snake River planning area” provides more precise guidance for law enforcement and can be portrayed accurately and more easily on a single map for the general public. The area descriptions in the proposed supplementary rules were vague and would also need many maps to be identified, versus just one map. In addition, the description “119-mile river corridor” does not set clear boundaries for law enforcement to know where to enforce the supplementary rules (e.g., enforce supplementary rules when they can see the river, enforce supplementary rules when they are ¼ mile from the river, etc.). Although the area descriptions are now called “the Snake River planning area” in the final supplementary rules, the public lands included under the final supplementary rules are the same lands that would have been encompassed by the proposed supplementary rules.

The title of Rule 10 was changed from “Parking Restrictions” to “Parking Restrictions and Regulatory Signs.” The term “Parking Restrictions” does not entirely apply to directional parking signs. Therefore, the term “Regulatory Signs” was added to include all signs posted at BLM-managed sites and locations within the Snake River planning area.

The comment requesting the use of fire blankets instead of fire pans was not incorporated in the final supplementary rules. To properly use a fire blanket, dirt must be dug up with each use and piled on the blanket to prevent scorching. Significant resource damage and vegetative impacts would occur if fire blankets were allowed along with or instead of fire pans in the Snake River planning area.

Rule 5(c) was added to clarify that RV owners are prohibited from emptying their tanks in the dump station at Byington boat access. The capacity of the dump station vault at Byington is a fraction of the size needed to accommodate multiple RV tanks. The dump station at Byington was installed to allow visitors to empty their portable toilets after multiple-night float trips and does not have the capacity to accommodate multiple RV tanks as well. It is also unsanitary for both river users emptying portable toilets and RV owners emptying tanks to use the same facility.

The following changes were made in Rule 7(a):

• The word “most” was added to a sentence in Rule 7(a) that described the open roads in the planning area. As written in the proposed supplementary rules, the sentence stated that “the” open roads in the planning area are located within the developed recreation site boundaries. That phrasing may have been confusing for law enforcement and the general public because it implied that the only open roads in the Snake River planning area are within developed recreation sites. The addition of the word “most” indicates that some of the open roads in the Snake River planning area are not within developed recreation site boundaries;

• A reference to “red boundary lines” on the maps of developed recreation sites was added in order to make these maps authoritative for BLM employees, volunteers, and the general public; and

• A reference to a Web site was corrected.

The final supplementary rule now reads in pertinent part, “Most open roads in the planning area are located within the developed recreation site boundaries and are identified by maps (red boundary lines) and/or legal descriptions available at the BLM Upper Snake Field Office and at the following Web site: http://www.blm.gov/id/st/en/fo/upper_snake/snake_river_plan_maps.html.”

In the final supplementary rule titled “Exceptions,” a reference to a Web site was corrected.

IV. Procedural Matters

Executive Order 12866, Regulatory Planning and Review

These final supplementary rules are not a significant regulatory action and are not subject to review by the Office of Management and Budget under Executive Order 12866. These final supplementary rules will not have an effect of $100 million or more on the economy. These final supplementary rules will not adversely affect in a material way the economy, productivity, competition, jobs, the environment, public health or safety, or State, local, or tribal governments or communities. These final supplementary rules will not create a serious inconsistency or otherwise interfere with an action taken or planned by another agency. These final supplementary rules do not materially alter the budgetary effects of entitlements, grants, user fees, or loan programs, or the rights or obligations of their recipients; nor do they raise novel legal or policy issues. These final supplementary rules will not affect legal commercial activity, but merely restrict or prohibit, in a reasonable manner, certain public conduct and uses of a limited area of public lands.

National Environmental Policy Act

The BLM and USFS prepared an Environmental Assessment (EA) (ID-310-2006-EA-3398) for the Snake River Activity/Operations Plan Revision, and found that the management direction implementing the plan decisions will not constitute a major Federal action significantly affecting the quality of the human environment under Section 102(2)(C) of the National Environmental Policy Act of 1969 (NEPA), 42 U.S.C. 4332(2)(C). The BLM has placed the EA, Finding of No Significant Impact (FONSI), and Decision Record on file in the BLM Administrative Record at the address specified in the ADDRESSES section. The EA and FONSI are also located on the following BLM Upper Snake Field Office Web site: http://www.blm.gov/id/st/en/fo/upper_snake.html.

Regulatory Flexibility Act

Congress enacted the Regulatory Flexibility Act of 1980 (RFA), as amended, 5 U.S.C. 601-612, to ensure that government regulations do not unnecessarily or disproportionately burden small entities. The RFA requires a regulatory flexibility analysis if a rule would have a significant economic impact, either detrimental or beneficial, on a substantial number of small entities. These final supplementary rules conserve natural and cultural resources and protect public health and safety, while providing for recreational opportunities in the area. Therefore, the BLM has determined under the RFA that these final supplementary rules would not have a significant economic impact on a substantial number of small entities.

Small Business Regulatory Enforcement Fairness Act

These final supplementary rules do not constitute a major rule as defined at 5 U.S.C. 804(2). These final supplementary rules merely protect public health and safety and conserve natural and cultural resources, while providing for recreational opportunities in the area and do not:

(1) Have an annual effect on the economy of $100 million or more;

(2) Cause a major increase in costs or prices for consumers, individual industries, Federal, State, or local government agencies, or geographic regions; or

(3) Have significant adverse effects on competition, employment, investment, productivity, innovation, or on the ability of United States-based enterprises to compete with foreign-based enterprises in domestic and export markets.

Unfunded Mandates Reform Act

These final supplementary rules do not impose an unfunded mandate on State, local or tribal governments or the private sector of more than $100 million per year; nor do these final supplementary rules have a significant or unique effect on State, local, or tribal governments or the private sector. These final supplementary rules have no effect on State, local, or tribal governments and do not impose any requirements on any of these entities. These final supplementary rules merely impose reasonable limitations or prohibitions on certain public conduct and uses of a limited area of public lands. These final supplementary rules will conserve natural and cultural resources, and protect public health and safety, while providing for recreational opportunities in the area. Therefore, the BLM has determined that a statement containing the information required by the Unfunded Mandates Reform Act (2 U.S.C. 1531 et seq.) is not required.

Executive Order 12630, Governmental Actions and Interference With Constitutionally Protected Property Rights (Takings)

These final supplementary rules do not represent a government action capable of interfering with constitutionally protected property rights. The final supplementary rules do not address property rights in any form, and do not cause the impairment of one's property rights. Therefore, the BLM has determined that these final supplementary rules would not cause a “taking” of private property or require further discussion of takings implications under this Executive Order.

Executive Order 13132, Federalism

These final supplementary rules will not have a substantial direct effect on the States, on the relationship between the national government and the states, or on the distribution of power and responsibilities among the various levels of government. These final supplementary rules do not conflict with any Idaho State law or regulation. Therefore, in accordance with Executive Order 13132, the BLM has determined that these final supplementary rules do not have sufficient Federalism implications to warrant preparation of a Federalism Assessment.

Executive Order 12988, Civil Justice Reform

Under Executive Order 12988, the Idaho State Office of the BLM has determined that these final supplementary rules would not unduly burden the judicial system and that they meet the requirements of sections 3(a) and 3(b)(2) of the Order.

Executive Order 13175, Consultation and Coordination With Indian Tribal Governments

In accordance with Executive Order 13175, the BLM has found that these final supplementary rules do not include policies that have tribal implications. Government-to-Government consultation was conducted with the Shoshone-Bannock Tribes over the course of the planning effort.

Executive Order 13211, Actions Concerning Regulations That Significantly Affect Energy Supply, Distribution, or Use

These final supplementary rules do not comprise a significant energy action. These final supplementary rules will not have an adverse effect on energy supply, production, or consumption and have no connection with energy policy.

Paperwork Reduction Act

These final supplementary rules do not contain information collection requirements that the Office of Management and Budget must approve under the Paperwork Reduction Act of 1995, 44 U.S.C. 3501 et seq.

Author

The principal author of these final supplementary rules is Shannon Bassista, Outdoor Recreation Planner, Bureau of Land Management.

For the reasons stated in the Preamble and under the authority of FLPMA, 43 U.S.C. 1733(a) and 43 CFR 8365.1-6, the Upper Snake Field Office, BLM, proposes to issue supplementary rules for BLM managed lands covered by the Snake River Plan, to read as follows:

Supplementary Rules for the Snake River Planning Area Identified Definitions

For purposes of these supplementary rules, the following definitions apply unless modified within a specific part or regulation:

Camping means erecting a tent or a shelter of natural or synthetic materials, preparing a sleeping bag or other bedding material for use, or parking a motor vehicle, motor home, or trailer for the purpose or apparent purpose of overnight occupancy.

Designated campsite means a specific location identified by the BLM for camping. Designated campsites could include individual sites in developed campgrounds and developed recreation sites for camping that may or may not contain picnic tables, shelters, parking sites, and/or grills. All designated campsites are identified by a BLM map or sign.

Developed recreational site means any site or area that contains structures or capital improvements primarily used by the public for recreation purposes. Such areas or sites may include: Delineated spaces or areas for parking, camping or boat launching; sanitation facilities; potable water; grills or fire rings; tables; or controlled access.

Off-highway vehicle (OHV) means an all-terrain vehicle, motorbike, specialty off-highway vehicle or utility type vehicle not licensed for highway use (not street legal), excluding: (1) Any military, fire, emergency, or law enforcement vehicle while being used for emergency purposes; (2) any vehicle whose use is expressly authorized by the authorized officer, or otherwise officially approved; (3) vehicles in official use; and (4) any combat or combat-support vehicle when used in times of national defense emergencies.

Refer to Idaho Code 67-7101 for definitions of an all-terrain vehicle, motorbike, specialty off-highway vehicle or utility type vehicle.

1. Firearms and Target Shooting

a. The discharge of any weapons (i.e., projectiles, firearms, muzzleloaders), including those used for target shooting, within the boundaries or within 250 yards of developed recreation sites or areas is prohibited. Boundaries are defined by perimeter fences and/or the gravel or asphalted parking areas and site roads. Developed recreation site boundaries are identified by maps and/or legal descriptions available at the BLM Upper Snake Field Office and at the following Web site: http://www.blm.gov/id/st/en/fo/upper_snake/snake_river_plan_maps.html. All firearm and target shooting rules will apply to new recreation sites as they are developed.

b. The discharge of weapons of any kind is prohibited year-round on BLM lands at North Menan Butte (i.e., all trails, parking areas, or any BLM lands on the slopes and crater of the butte).

c. Any object containing glass or other material that can shatter and cause a public safety hazard must not be used for target shooting.

d. All shooting materials, including spent brass or shells, their containers, and any items used as targets, must be removed and properly disposed of.

2. Length of Stay

All camping within the planning area is subject to a 5-day camping limit within any period of 19 consecutive days. The 5-day limit may be reached either through 5 separate visits or 5 days of continuous occupation during the 19-day period. After the 5-day limit has been reached, campers must move outside of a 20-mile radius of the previous location and not return to that location for 14 days. Exceeding length of stay limits, as indicated by a BLM sign or map, is prohibited.

3. Camping

a. You must only camp in sites or areas designated as open to camping by a BLM sign or map.

b. Camp Areas Accessed by Vehicle or by Foot Travel: At the Kelly Island Campground and Wolf Flats Recreation Area visitors must camp in designated sites identified by a fire ring and/or picnic table. Camping outside of the boundaries defined by barriers such as post and cable or buck and pole fence is prohibited. As undeveloped camping areas within the Upper Snake Field Office are developed by the BLM through the addition of fire rings, restrooms, picnic tables, etc., visitors must camp in identified designated sites at the developed camping locations.

c. Camp Areas Accessed by Floating/Boating: You must camp in designated sites identified by a sign or map between Palisades Dam and Byington boat access. You must camp in designated sites along the rest of the river corridor as they become designated.

d. You must not leave personal belongings overnight in an unattended campsite.

e. You must keep campsites free of trash, litter and debris during the period of occupancy.

f. You must remove all personal equipment and clean campsites upon departure.

g. You must not camp within a 400-meter radius of active Bald Eagle nests, which are indicated by a BLM sign or map. Areas within a 400-meter radius of active Bald Eagle nests are closed to human entry from February 1 to July 31 each year.

These supplementary rules supersede the Notice of Seasonal Restrictions and Limited Land Use, Closure Order, Idaho that the BLM published in the Federal Register on June 18, 1992 (57 FR 27264).

4. Permits

You must complete and possess a self-issue permit when using overnight designated campsites that are exclusively accessed by boat. Visitors are required to provide one completed copy for the BLM and maintain an additional copy throughout their overnight camping trip. These supplementary rules supersede the Notice of Sanitation and Special Recreation Permit Requirements on the South Fork of the Snake River which the BLM published in the Federal Register on April 20, 1995 (60 FR 19762).

5. Human Waste Disposal

a. You must remove solid human waste and toilet paper from the Snake River planning area. You must use a human waste carryout system (e.g., sealable portable toilet, or a landfill approved biodegradable double bag system). The landfill approved biodegradable system must be made from puncture resistant materials and contain non-toxic powder and decay catalyst that breaks down solid waste and turns liquid waste to a solid for hygienic and spill-proof transport.

Rule 5(a) does not apply where waste disposal facilities are provided (e.g., Kelly Island Campground and Wolf Flats Recreation Area).

b. Any portable toilet system must be reusable, washable, water tight, and portable toilet and/or RV-dump compatible. Portable toilets with snap-on lids, such as ammo cans or plastic buckets, are required to have a rubber gasket to prevent leaks and spills. Plastic bag liners are not acceptable with the exception of a landfill approved biodegradable double bag system addressed in Rule 5(a).

c. It is prohibited for RV owners to empty their tanks in the dump station at Byington boat access or other vault toilet facilities within the planning area.

These supplementary rules supersede the Notice of Sanitation and Special Recreation Permit Requirements on the South Fork of the Snake River, which the BLM published in the Federal Register on April 20, 1995 (60 FR 19762).

6. Campfires and Wood Collecting

a. You must not cut any trees for commercial or private use. You must not remove branches and other parts of the trees that are still attached to the tree unless a BLM permit is issued.

b. You may only collect dead and downed wood for campfires in reasonable amounts. The collected reasonable amount is determined by the amount an average person could haul or carry without the use of a machine.

c. Girdling (making a band around the trunk of a tree by removing a strip of bark) or damaging trees in the planning area is prohibited. The use of chainsaws is prohibited.

d. Fire Pan and Ash Removal: An approved fire pan is a durable, metal pan at least 12-inches x 12-inches wide, with at least a 3-inch lip around its outer edge and sufficient to contain a fire and its remains. Visitors must elevate fire pans off the ground to prevent scorching of the soil. If the fire pan does not have legs to elevate it, rocks must be placed underneath the corners of the fire pan. All ash must be removed and carried out of the river corridor in a sealed container or durable bag.

e. Camp Areas Accessed by Vehicle or by Foot Travel: Unless the BLM installs a fire ring, you must use a fire pan and carry out all ash from undeveloped dispersed camping sites and public lands within the Snake River planning area. All fires must be fully contained in a metal fire grate, fire pan, or other metal device to contain ashes. Mechanical stoves and other appliances that are fueled by gas and equipped with a valve that allows the operator to control the flame are allowed.

f. You must not start or maintain a fire in sites or areas not designated as open for such use by a BLM sign or map.

g. Camp Areas Accessed by Floating/Boating: You must use a fire pan and carry out all ash prior to abandoning the site.

h. When starting or maintaining a fire outside of a developed recreation site, you must contain and dispose of fire ashes and debris as indicated by a BLM sign or map.

i. You must not burn wood or other material containing nails, glass, or any metal.

7. General Travel Management

a. You must not enter an area designated closed by a BLM sign or map by means of motorized vehicle, including off-highway vehicles (OHVs). Most open roads in the planning area are located within the developed recreation site boundaries that are identified by maps (red boundary lines) and/or legal descriptions available at the BLM Upper Snake Field Office and at the following Web site: http://www.blm.gov/id/st/en/fo/upper_snake/snake_river_plan_maps.html. Site roads and trails open to motorized use are shown on these maps.

b. Roads and trails must only be used when designated as open by a BLM sign or map. You must only access such roads and trails by an allowable method of travel as indicated by a BLM sign or map. Rule 7(b) does not apply to holders of BLM-issued rights-of-way for maintenance or administrative purposes.

c. From December 1 through April 30, the Stinking Springs Trail and parts of the upper bench adjacent to the Wolf Flats Recreation Area are closed to human and vehicle entry to protect wintering big game. The authorized officer has the authority to adjust the closure due to weather or changes in the mule deer population. BLM closure maps are available at the BLM Upper Snake Field Office. Outside of the closure period, the motorized portion of trail is open to all modes of travel, except snow vehicles and vehicles more than 50 inches wide. The legal description for the closure is:

Boise Meridian, Idaho

T. 4 N., R. 41 E.,

Sec. 32, lands east of Kelly Canyon Road in the NE¼, lands east of Kelly Canyon Road in the SE¼NW¼, lands east of Kelly Canyon in the NE¼SW¼, SE¼;

Sec. 33, a portion of the W½NE¼, a portion of the SW¼SW¼SE¼NE¼, a portion of the NE¼NW¼, a portion of the NW¼NW¼, S½NW¼, SW¼, a portion of the NE¼SE¼, W½SE¼, SE¼SE¼.

T. 3 N., R. 41 E.,

Sec. 2, SW¼;

Sec. 3, a portion of the NE¼NE¼, W½NE¼, SE¼NE¼, W½, SE¼;

Sec. 4, N½SW¼, SE¼SW¼, SE¼;

Sec. 5, NW¼NE¼;

Sec. 8, a portion of lots 6 and 8;

Sec. 9, a portion of lots 2 through 4, N½, NE¼SW¼, N½SE¼, SE¼SE¼;

Sec. 10, a portion of lots 1 and 2, N½NE¼, SW¼NE¼, NW¼, N½SW¼, SW¼SW¼, a portion of the SE¼SW¼;

Sec. 11, a portion of lots 2 through 4, N½NW¼, N½SE¼SE¼;

Sec. 15, a portion of lots 7 and 8, a portion of the NW¼NW¼

Sec. 16, a portion of lots 5 and 6.

The area described contains 3,251 acres, according to the official plat of the survey of the said land on file in the BLM Upper Snake Field Office, 1405 Hollipark Dr., Idaho Falls, ID 83401.

These supplementary rules supersede the Notice of Emergency Closure of Public Lands, Idaho that the BLM published in the Federal Register on March 16, 1988 (53 FR 8701).

8. Vehicle Size and Trail Width

a. You must not operate a motorized or mechanized vehicle in violation of trail width and/or vehicle type restrictions as indicated by a BLM sign or map.

b. You must not operate any vehicle more than 50 inches wide on any designated OHV routes.

c. You must not operate any vehicle more than 36 inches wide on any designated single track routes.

9. Boat Launch

You may only launch a boat in designated boat launches that are identified by a BLM sign or map.

10. Parking Restrictions and Regulatory Signs

You must comply with parking restrictions and regulatory requirements at all locations within the Snake River planning area.

11. Kelly Island Campground

You must comply with the following regulations at Kelly Island Campground:

a. Only two vehicles are permitted in a single campsite, only one of which may be a recreational vehicle (RV), camper, or vehicle with a camp trailer. No more than eight people are allowed per site.

b. Double campsites 1, 3, and 6 can accommodate no more than four vehicles, only two of which may be an RV, camper, or vehicle with a camp trailer. No more than 16 people are allowed per double campsite. For all double campsites, the standard campsite fee must be doubled.

c. All camping is subject to a 5-day stay limit.

d. The campsite may only be occupied nightly by registered parties.

e. Horses must be kept outside the recreation site and campground. All pets must be on a leash not longer than 6 feet and secured to a fixed object or under the control of a person, or otherwise physically restricted at all times.

f. You must keep and leave your camp clean. Do not throw trash into the river, fire rings, or vault toilets.

g. Fires must be fully contained in a metal fire grate, fire pan, or other metal device to contain ashes.

h. Do not damage buildings, signs, trees, vegetation or other facilities.

i. Visitors must obey quiet hours from 10 p.m. until 7 a.m. Do not use generators, radios, or other noisy devices during quiet hours.

j. Overnight visitors must return to the campground by 10 p.m. The entrance gate will be locked from 10 p.m. until 7 a.m. to prevent non-campers from entering.

k. You must not enter Kelly Island Campground via an OHV. Do not remove OHVs from trailers at Kelly Island Campground.

12. Other Use Authorizations

You must not violate any terms, conditions or stipulations of any permit or other authorization issued for special use of these public lands.

Exceptions

The prohibition on the use of firearms in Rule 1(a) does not prohibit hunting by licensed hunters in legitimate pursuit of wild game during the proper season with appropriate firearms, as permitted by the Idaho Department of Fish and Game, within all developed recreation site boundaries after October 1.

Hunting is prohibited within the Kelly Island Campground boundaries until the campground is closed for the season (closure timeframe varies), after which hunting by licensed hunters in legitimate pursuit of wild game is permitted within the boundaries. The gate must be closed and locked for the season before hunting (by foot) is permitted within the Kelly Island Campground boundaries. Campground closure will be advertised at the Eastern Idaho Visitor Center, the BLM Upper Snake Field Office, and at the following BLM recreation Web site: http://www.blm.gov/id/st/en/fo/upper_snake/recreation_sites_/Kelly_Island_Campground.html.

Penalties: Under section 303(a) of the Federal Land Policy and Management Act of 1976 (43 U.S.C. 1733(a)) and 43 CFR 8360.0-7, any person who violates any of these supplementary rules may be tried before a United States Magistrate and fined up to $1,000 and/or imprisoned for no more than 12 months. Such violations may also be subject to the enhanced fines provided for by 18 U.S.C. 3571.

Steven A. Ellis,
BLM Idaho State Director.

[FR Doc. 2011-14198 Filed 6-7-11; 8:45 am]

BILLING CODE 4310-GG-P